TENNESSEE VALLEY AUTHORITY

Meeting of the Regional Resource Stewardship Council

AGENCY: Tennessee Valley Authority (TVA).

ACTION: Notice of meeting.

SUMMARY: The TVA Regional Resource Stewardship Council (RRSC) will hold a meeting on Thursday, March 4, and Friday, March 5, 2010, to consider various matters.

The RRSC was established to advise TVA on its natural resource stewardship activities. Notice of this meeting is given under the Federal Advisory Committee Act (FACA), 5 U.S.C. App. 2.

The management of the Tennessee Valley reservoirs and the lands adjacent to them has long been integral components of TVA's mission. As part of implementing the TVA Environmental Policy, TVA is developing a Natural Resource Plan (NRP) and Environmental Impact Study (EIS) under the process established by the National Environmental Policy Act (NEPA) that will help prioritize techniques for the management of TVA's sustainable land use activities, natural resource management activities, recreation and water resource protection and improvement activities. TVA would like to utilize the RRSC as a key stakeholder group throughout the EIS period to advise TVA on the issues, tradeoffs, and focus of environmental stewardship activities. At the March meeting, TVA will be seeking advice from the Council on issues regarding the scope of the study and the preliminary draft alternatives that will support the Draft EIS and direction of the study. TVA will also be seeking recommendations and advice on the NRP objectives and activities that complement the use of public lands with the protection of these natural resources.

The meeting agenda includes the following:

1. Introductions.

2. Natural Resource Plan Background, Components of the Plan, Preliminary Draft Alternatives.

3. RRSC Discussion Topic: Natural Resource Plan scope, preliminary draft alternatives included in the components of the NRP (e.g., Natural Resource Management, Reservoir Lands Planning, Water Resources, and Recreation) and uncertainties impacting the development of various portfolios and scenarios.

4. Public Comments.

5. Council Discussion and Advice.

The TVA RRSC will hear opinions and views of citizens by providing a public comment session. The public comment session will be held at 10 a.m., EST, on Friday, March 5. Persons wishing to speak are requested to register at the door by 9 a.m. on Friday, March 5 and will be called on during the public comment period. Handout materials should be limited to one printed page. Written comments are also invited and may be mailed to the Regional Resource Stewardship Council, Tennessee Valley Authority, 400 West Summit Hill Drive, WT-11 B, Knoxville, Tennessee 37902.

DATES: The meeting will be held on Thursday, March 4 from 8:30 a.m. to 4:30 p.m., and Friday, March 5, from 8 a.m. to 12 noon, EST.

ADDRESSES: The meeting will be held at the Auditorium of the TVA Headquarters at 400 West Summit Hill Drive, Knoxville, Tennessee 37902, and will be open to the public. Anyone needing special access or accommodations should let the contact below know at least a week in advance.

FOR FURTHER INFORMATION CONTACT: Beth Keel, 400 West Summit Hill Drive, WT-11 B, Knoxville, Tennessee 37902, (865) 632-6113.

Dated: February 10, 2010.
Original signed by:
Anda A. Ray,
Senior Vice President and Environmental Executive, Environment and Technology, Tennessee Valley Authority.

[FR Doc. 2010-3050 Filed 2-17-10; 8:45 am]

BILLING CODE 8120-08-P